DEPARTMENT OF ENERGY

Environmental Management Site-Specific Advisory Board Chairs

AGENCY: Office of Environmental Management, Department of Energy.

ACTION: Notice of open meeting.

SUMMARY: This notice announces an in-person meeting of the Environmental Management Site-Specific Advisory Board (EM SSAB) Chairs. The Federal Advisory Committee Act requires that public notice of this meeting be announced in the Federal Register.

DATES:

Wednesday, October 4, 2023; 9:00 a.m.-5:00 p.m. EST

Thursday, October 5, 2023; 8:30 a.m.-12:15 p.m. EST

ADDRESSES: DoubleTree Hotel, 215 S Illinois Avenue, Oak Ridge, TN 37830.

FOR FURTHER INFORMATION CONTACT: Kelly Snyder, EM SSAB Designated Federal Officer. Phone: (702) 918-6715; Email: kelly.snyder@em.doe.gov.

SUPPLEMENTARY INFORMATION:

Purpose of the Board: The purpose of the Board is to make recommendations to DOE-EM and site management in the areas of environmental restoration, waste management, and related activities.

Tentative Agenda Topics:

Wednesday, October 4, 2023

• Public Comment

• Presentations by DOE

• Board Business/Open Discussion

Thursday, October 5, 2023

• Public Comment

• Board Business/Open Discussion

Public Participation: DOE welcomes the attendance of the public at their advisory committee meetings and will make every effort to accommodate persons with physical disabilities or special needs. If you require special accommodations due to a disability, please contact Kelly Snyder at least seven days in advance of the meeting at the phone number or email listed above. Written public comment statements may be filed either before or after the meeting with the Designated Federal Officer, Kelly Snyder, at the phone number or email listed above. Individuals who wish to make oral public comment should also contact Kelly Snyder. Requests must be received five days prior to the meeting. Individuals wishing to make public comment will be provided a maximum of five minutes to present their comments. The Designated Federal Officer is empowered to conduct the meeting in a fashion that will facilitate the orderly conduct of business.

Minutes: Minutes will be available at the following website: https://energy.gov/em/listings/chairs-meetings.

Signed in Washington, DC on September 8, 2023.
LaTanya Butler,
Deputy Committee Management Officer.

[FR Doc. 2023-19871 Filed 9-13-23; 8:45 am]

BILLING CODE 6450-01-P